DEPARTMENT OF THE INTERIOR

National Park Service

National Register of Historic Places; Notification of Pending Nominations and Related Actions

Nominations for the following properties being considered for listing or related actions in the National Register were received by the National Park Service before December 12, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by January 14, 2010 .

J. Paul Loether,
Chief, National Register of Historic Places/National Historic Landmarks Program.

ARKANSAS

Boone County

Twelve Oaks, 7210 AR 7 S, Harrison, 09001237

Carroll County

Sanitarium Lake Bridges Historic District, (Historic Bridges of Arkansas MPS) Carroll Co. Rd. 317, approx. .5 mi. S. of Greenwood Hollow Rd., Eureka Springs, 09001238

Clark County

DeGray Creek Bridge, (Historic Bridges of Arkansas MPS) Co. Rd. 50 over DeGray Creek, Arkadelphia, 09001239

Columbia County

Cross and Nelson Hall Historic District, (New Deal Recovery Efforts in Arkansas MPS) Southern Arkansas University Campus at 100 E. University, Magnolia, 09001240

Crawford County

Lee Creek Bridge, (Historic Bridges of Arkansas MPS) W. of W. Rena Rd. over Lee Creek, Van Buren, 09001241

Old U.S. 64—Van Buren Segment, (Arkansas Highway History and Architecture MPS) Oak Ln. N. of US 64, Van Buren, 09001242

Crittenden County

Riverside Speedway, 151 Legion Rd., West Memphis, 09001243

Wilson Power and Light Company Ice Plant, 120 E. Broadway St., West Memphis, 09001244

Desha County

McGehee Post Office, 201 N. Second St., McGehee, 09001245

Garland County

Malco Theatre, 817 Central Ave., Hot Springs, 09001246

Hempstead County

Southwestern Proving Ground Building No. 5, (World War II Home Front Efforts in Arkansas, MPS) 259 Hempstead Co. Rd. 279, Hope, 09001247

Independence County

Central Avenue Bridge, (Historic Bridges of Arkansas MPS) AR 69 over Polk Bayou, Batesville, 09001248

Miller Creek Bridge, (Historic Bridges of Arkansas MPS) Co. Rd. 86 over Miller Creek, Batesville, 09001249

Jefferson County

Taylor Field, (New Deal Recovery Efforts in Arkansas MPS) 1201 E. 16th St., Pine Bluff, 09001250

Lawrence County

Commandant's House, (World War II Home Front Efforts in Arkansas, MPS) 264 McClellan Dr., Walnut Ridge, 09001251

Logan County

Liberty Schoolhouse, 12682 Spring Lake Rd., Corley, 09001252

Marion County

Crooked Creek Bridge, (Historic Bridges of Arkansas MPS) US 62 Spur N. over Crooked Creek, Pyatt, 09001253

Miller County

Beech Street Historic District, Roughly Beech St. between 14th and 23rd Sts., Texarkana, 09001254

Newton County

Jasper Commercial Historic District, Roughly bounded by Sycamore St., E. Elm St., N. Spring St., and Clark St., Jasper, 09001255

Ouachita County

Washington Street Historic District, 404-926 W. Washington, 619-816 Graham, 116-132 N. Cleveland, 131-139 N. Agee and 132 N. California, Camden, 09001256

Poinsett County

Poinsett Lumber and Manufacturing Company Manager's House, 512 Poinsett Ave., Trumann, 09001257

Pulaski County

Oakland-Fraternal Cemetery, 2101 Barber St., Little Rock, 09001258

Seed Warehouse No. 5, (Cotton and Rice Farm History and Architecture in the Arkansas Delta MPS) SW corner of US 165 and AR 161, Scott, 09001259

Van Buren County

Middle Fork of the Little Red River Bridge, Co. Rd. 125 over the Middle Fork of the Little Red River, Shirley, 09001260

Washington County

Cane Hill Road Bridge, (Historic Bridges of Arkansas MPS) AR 170 over the Little Red River, Prairie Grove, 09001261

Goff Farm Stone Bridge, (Historic Bridges of Arkansas MPS) Goff Farm Rd. approx. ½ mi. E. of Dead Horse Mountain Rd., Fayetteville, 09001262

Yell County

Petit Jean River Bridge, (Historic Bridges of Arkansas MPS) Co. Rd. 49 over the Petit Jean River, Ola, 09001263

DISTRICT OF COLUMBIA

District of Columbia

Fort View Apartments, (Apartment Buildings in Washington, DC, MPS) 6000-6020 and 6030-6050 13th Place, N.W., Washington, 09001264

MISSOURI

St. Louis Independent city

Central Carondelet Historic District (Boundary Increase III), Roughly bounded by Bates St. on the N., Interstate 55 on the W., S. Broadway on E. and Holly Hills on S., St. Louis, 09001265

Wellston Loop commercial Historic District, Bounded by the city limits, the alleys S. and N. of Martin Luther King Dr. and Clara Ave., St. Louis, 09001266

NEW MEXICO

Eddy County

Artesia Residential Historic District, (Artificial Stone Houses of Artesia TR) Roughly bounded by W. Main St. on the N.; W. Missouri Ave. on the S.; S. 2nd St. on the E.; S. 10th St. on the W., Artesia, 09001267

NEW YORK

Columbia County

New Concord Historic District, Co. Rt. 9, New Concord, 09001268

Oswego County

Tanner Block, (Oswego, Oswego County, New York) 175-177 W. First St., Oswego, 09001269

Washington Square Historic District, (Oswego, Oswego County, New York) E. 4th St., E. Oneida St., E. 3rd St., Oswego, 09001270

Saratoga County

Victory Mills, 42 Gates Ave., Schuylerville, 09001271

WISCONSIN

Brown County

South Broadway Historic District, 101-129 (odd only) S. Broadway, De Pere, 09001272

Walworth County

Whitewater Hotel, 226 W. Whitewater St., Whitewater, 09001273

Request for REMOVAL has been made for the following resources:

ARKANSAS

Jefferson County

Hospital and Benevolent Association, (Thompson, Charles L., Design Collection), 11th and Cherry, Pine Bluff, 82000841

Pulaski County

Center Theater, 407 S. Main St., Little Rock, 03000422

Sevier County

Hotel Dee Swift (Railroad Era Resources of Southwest Arkansas MPS), 123 N. Port Arthur St., DeQueen, 96000644

[FR Doc. E9-31062 Filed 12-29-09; 8:45 am]

BILLING CODE P